FEDERAL COMMUNICATIONS COMMISSION

[DA 02-3606]

Consumer Advisory Committee

AGENCY: Federal Communications Commission.

ACTION: Notice.

SUMMARY: This document announces the rechartering of the Consumer Advisory Committee, formerly known as the Consumer/Disability Telecommunications Advisory Committee (hereinafter “the Committee”), whose purpose is to make recommendations to the Federal Communications Commission (“FCC” or “Commission”) regarding consumer issues within the jurisdiction of the Commission and to facilitate the participation of consumers (including people with disabilities and underserved populations, such as American Indians and persons living in rural areas) in proceedings before the Commission. The Commission also requests applications for membership on the Committee.

DATES: Applications should be received no later than January 31, 2003.

ADDRESSES: Applications should be sent to the Federal Communications Commission, Consumer & Governmental Affairs Bureau, Attn.: Scott Marshall, via e-mail to cac@fcc.gov, via facsimile to 202-418-6509 or via U.S. Mail, to 445 12th Street, SW., Room 5A824, Washington, DC 20554.

FOR FURTHER INFORMATION CONTACT: Scott Marshall, Consumer & Governmental Affairs Bureau, Federal Communications Commission, 202-418-2809 (voice), 202-418-0179 (TTY), or e-mail smarshal@fcc.gov.

SUPPLEMENTARY INFORMATION: A public notice, which announced the rechartering of the Consumer Advisory Committee (formerly known as the Consumer/Disability Telecommunications Advisory Committee), was released on December 31, 2002.

Electronic Access and Filing

A copy of this notice also is available in alternate formats (Braille, cassette tape, large print or diskette) upon request. The notice also is posted on the Commission's Web site at www.fcc.gov/cgb/cac. Applications for membership on the Committee may be sent to the Commission via email addressed to Consumer & Governmental Affairs Bureau, Attn.: Scott Marshall, cac@fcc.gov, may be transmitted via facsimile to 202-418-6509, or may be sent via U.S. mail to 445 12th Street, SW., Room 5A824, Washington, DC 20554.

Background

The establishment of the Committee was announced by public notice dated November 30, 2000, 15 FCC Rcd 23798, as published in the Federal Register (65 FR 76265, December 6, 2000). On November 20, 2002, the initial Charter of the Committee terminated. The Charter was renewed for another two year term, and the name of the Committee was changed to the Consumer Advisory Committee to better reflect its mandate and activities. The Committee is organized under, and will operate in accordance with, the provisions of the Federal Advisory Committee Act, 5 U.S.C. App. 2 (1988).

The mission of the Committee is to make recommendations to the Commission regarding consumer issues within the jurisdiction of the Commission and to facilitate the participation of consumers (including people with disabilities and underserved populations, such as American Indians and persons living in rural areas) in proceedings before the Commission.

Each meeting of the full Committee will be open to the public. A notice of each meeting will be published in the Federal Register at least 15 days in advance of the meeting. Records will be maintained of each meeting and made available for public inspection.

Functions of the Committee

The topics to be addressed by the Committee will include, but are not limited to, the following areas:

• Consumer protection and education (e.g., cramming, slamming, consumer friendly billing, detariffing, bundling of services, Lifeline/Linkup programs, customer service, privacy, telemarketing abuses, and outreach to underserved populations, such as Native Americans and persons living in rural areas).

• Access by people with disabilities (e.g., telecommunications relay services, closed captioning, accessible billing and access to telecommunications products and services).

• Impact upon consumers of new and emerging technologies (e.g., availability of broadband, digital television, cable, satellite, low power FM, and the convergence of these and emerging technologies).

• Implementation of Commission rules and consumer participation in the FCC rulemaking process.

During calendar year 2003, it is anticipated that the Committee will meet in Washington, DC for three one-day meetings on April 11, June 27, and November 14. In addition, as needed, working groups will be established to facilitate the Committee's work between meetings of the full Committee. Meetings will be fully accessible to individuals with disabilities.

Membership

The Commission seeks applications from interested organizations, from both the public and private sectors, that wish to be considered for membership on the Committee. Selections will be made on the basis of factors such as expertise and diversity of viewpoints that are necessary to address effectively the questions before the Committee. Applicants should be recognized experts in their fields, including, but not limited to, consumer advocacy, disabilities, underserved populations (e.g., persons living in rural areas and tribal communities), telecommunications infra-structure and equipment, telecommunications services (including wireless), and broadcast/cable services. The number of Committee members will be established to effectively accomplish the Committee's work. Organizations with similar interests are encouraged to nominate one person to represent their interests.

Members must be willing to commit to a 2-year term of service, should be willing and able to attend three 1-day meetings per year in Washington, DC, and are also expected to participate in deliberations of at least one working group. The Commission is unable to pay per diem or travel costs.

Applications for Membership/ Deadline

Applications should be received by the Commission no later than January 31, 2003, and should be sent to the Federal Communications Commission, Consumer & Governmental Affairs Bureau, Attn.: Scott Marshall, via e-mail to cac@fcc.gov, via facsimile to 202-418-6509 or via U.S. mail to 445 12th Street, SW., Room 5A824, Washington, DC 20554.

Due to the extensive security screening of incoming mail since September 11, 2001, delivery of mail sent to the FCC may be delayed. Therefore, we encourage submission by email or fax. If an application is sent via U.S. mail, we encourage applicants to follow up with a phone call to Scott Marshall, 202-418-2809, or 202-418-0179 (TTY), to confirm receipt. A specified application form is not required. However, applications should include the name of the organization, the representative's name, the name of an alternate representative, title, address and telephone number, a statement of the interests represented and the issues of interest to the applicant, and a detailed description of the applicant's knowledge and qualifications to serve on the Committee. The application should further be supported by a statement indicating a willingness to serve on the Committee for a 2 year period of time; a commitment to attend three 1-day meetings per year in Washington, DC at the applicant's own expense; and a commitment to work on at least one working group. Members will have an initial and continuing obligation to disclose any interests in, or connections to, persons or entities that are, or will be, regulated by or have interests before the Commission.

After the applications have been reviewed, the Commission will publish a notice in the Federal Register announcing the appointment of the Committee members and the first meeting date of the Committee. It is anticipated that the first Committee meeting will take place on April 11, 2003.

Federal Communications Commission.
K. Dane Snowden,
Chief, Consumer & Governmental Affairs Bureau.

[FR Doc. 03-814 Filed 1-14-03; 8:45 am]

BILLING CODE 6712-01-P